DEPARTMENT OF TRANSPORTATION

Federal Aviation Administration

14 CFR Part 25

[Docket No. FAA-2012-1215, Special Conditions No. 25-482-SC]

Special Conditions: Embraer S.A., Model EMB-550 Airplanes; Flight Envelope Protection: High Speed Limiting

AGENCY: Federal Aviation Administration (FAA), DOT.

ACTION: Final special conditions; correction.

SUMMARY: This document corrects an error that appeared in Docket No. FAA-2012-1215, Special Conditions No. 25-12-482-SC, which was published in the Federal Register on February 19, 2013 (78 FR 11562). The error was an extra number, “12,” in the number of Special Conditions. To avoid confusion, the special conditions published as Docket No. FAA-2012-1215, Special Conditions No. 25-12-482-SC, has been renamed Docket No. FAA-2012-1215, Special Conditions No. 25-482-SC. The heading of this correction also reflects the correct Special Conditions No. 25-482-SC.

DATES: The effective date of this correction is May 3, 2013.

FOR FURTHER INFORMATION CONTACT: Joe Jacobsen, FAA, Airplane and Flight Crew Interface Branch, ANM-111, Transport Airplane Directorate, Aircraft Certification Service, 1601 Lind Avenue SW., Renton, Washington 98057-3356; telephone 425-227-2011; facsimile 425-227-1149.

SUPPLEMENTARY INFORMATION: The document designated as “Docket No. FAA-2012-1215, Special Conditions No. 25-12-482-SC” was published in the Federal Register on February 19, 2013 (78 FR 11562). The document issued special conditions pertaining flight envelope protection: high speed limiting.

As published, the document contained an error in that the Special Conditions number. To avoid confusion, in the heading of this correction to the special conditions has been changed to the correct Special Conditions number, No. 25-482-SC.

Since no other part of the regulatory information has been changed, the special conditions are not being republished.

Correction

In Final special conditions document [FR Doc. 2013-03676 Filed 2-15-13; 8:45 am] published on February 19, 2013 (78 FR 11562), make the following correction:

On page 11562, in the third column, in the Headings section, correct “Special Conditions No. 25-12-482-SC” to read “Special Conditions No. 25-482-SC.”

Issued in Renton, Washington, on March 28, 2013.
Ali Bahrami,
Manager, Transport Airplane Directorate, Aircraft Certification Service.

[FR Doc. 2013-07651 Filed 4-2-13; 8:45 am]

BILLING CODE 4910-13-P